DEPARTMENT OF THE INTERIOR

Bureau of Reclamation

[RR03240000, XXXR4079V4, RX122562102010000]

Termination of Notice of Intent To Prepare an Environmental Impact Statement, New Mexico Unit of the Central Arizona Project; Catron, Grant, and Hidalgo Counties, New Mexico

AGENCY: Bureau of Reclamation, Interior.

ACTION: Notice of termination.

SUMMARY: The Bureau of Reclamation (Reclamation) is terminating preparation of an Environmental Impact Statement (EIS) for the New Mexico Unit of the Central Arizona Project (CAP) (NM Unit). A Notice of Intent to prepare an EIS was published on June 12, 2018. Reclamation, as the lead Federal agency, and the New Mexico Interstate Stream Commission (ISC), as joint lead agency, issued a Draft EIS for public review on April 24, 2020. On October 15, 2020, the ISC, Reclamation, and the New Mexico CAP Entity terminated the Interim Advance Funding Agreement, which funded the NM Unit EIS process.

DATES: The preparation of the EIS for the NM CAP is discontinued as of the date of publication of this notice.

FOR FURTHER INFORMATION CONTACT: Ms. Leslie Meyers, Bureau of Reclamation, Phoenix Area Office, 6150 West Thunderbird Road, Glendale, AZ 85306-4001; telephone (623) 773-6211; facsimile (623) 773-6480; email lmeyers@usbr.gov. Persons who use a telecommunications device for the deaf may call the Federal Relay Service at 1 (800) 877-8339 TTY/ASCII to contact the above individual during normal business hours or to leave a message or question(s) after hours. You will receive a reply during normal business hours.

SUPPLEMENTARY INFORMATION: The Arizona Water Settlements Act, Public Law 108-451 (AWSA), amended the Colorado River Basin Project Act of 1968, Public Law 90-537, 43 U.S.C. Ch. 32, authorizing the Secretary of the Interior (Secretary) to contract with water users in New Mexico for water from the Gila River, its tributaries and underground water sources. Water use under the AWSA is conditioned on satisfying a variety of laws and agreements related to its use in New Mexico and Arizona.

The AWSA authorized the Secretary to design, build, operate, and maintain a NM Unit to divert Gila River water in New Mexico for this purpose. The Secretary was further directed to carry out all necessary environmental compliance required by Federal law in implementing the Consumptive Use and Forbearance Agreement and the New Mexico Unit Agreement, which would enable an exchange of CAP water to downstream Gila River water users in Arizona, for diversion and use of the Gila River in the NM Unit project area in southwestern New Mexico.

On November 18, 2016, an Interim Advance Funding Agreement was executed among the ISC, Reclamation, and the New Mexico CAP Entity (action proponent) for the purposes of paying Reclamation's costs associated with preparation of the EIS.

Pursuant to the National Environmental Policy Act (NEPA) of 1969, as amended, 42 U.S.C. 4231-4347, a Notice of Intent to prepare the EIS for the NM Unit was published in the Federal Register on June 12, 2018 (83 FR 27347).

Publication of the Federal Register notice was followed by a public scoping period that ended on July 20, 2018. The Draft EIS was made available for public review and comment from April 24 to June 8, 2020.

On June 18, 2020, the ISC voted to terminate the NEPA process for the NM Unit, and not fund Reclamation to complete the NEPA process.

The parties went through a dispute resolution process for termination of the Interim Advance Funding Agreement, following the ISC's decision. On October 15, 2020, the ISC, Reclamation, and the New Mexico CAP Entity terminated the Interim Advance Funding Agreement, which funded the NM Unit EIS process.

Karl Stock,
Acting Regional Director, Interior Region 8: Lower Colorado Basin, Bureau of Reclamation.

[FR Doc. 2021-08511 Filed 4-22-21; 8:45 am]

BILLING CODE 4332-90-P